DEPARTMENT OF ENERGY

Federal Energy Regulatory Commission

[Project No. 14372-001]

Grand Coulee Project Hydroelectric Authority; Notice of Surrender of Preliminary Permit

Take notice that Grand Coulee Project Hydroelectric Authority, permittee for the proposed Rocky Coulee Wasteway Hydroelectric Project, has requested that its preliminary permit be terminated. The permit was issued on July 11, 2012, and would have expired on June 30, 2015.¹ The project would have been located on the Rocky Coulee Wasteway near Moses Lake in Grant County, Washington.

¹ 140 FERC ¶ 62,036 122 (2012).

The preliminary permit for Project No. 14372 will remain in effect until the close of business, June 18, 2015. But, if the Commission is closed on this day, then the permit remains in effect until the close of business on the next day in which the Commission is open.² New applications for this site may not be submitted until after the permit surrender is effective.

² 18 CFR § 385.2007(a)(2) (2014).

Dated: May 19, 2015.
Kimberly D. Bose,
Secretary.

[FR Doc. 2015-12617 Filed 5-22-15; 8:45 am]

BILLING CODE 6717-01-P